SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. The information collection packages that may be included in this notice are for new information collections and revisions to OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer (contact information is listed below).

(OMB) Office of Management and Budget, Attn: Desk Officer for SSA, Fax: 202-395-6974.

(SSA) Social Security Administration, DCFAM, Attn: Reports Clearance Officer, 1338 Annex Bldg., 6401 Security Blvd., Baltimore, MD 21235, Fax: 410-965-6400.

I. The information collection listed below has been submitted to OMB for clearance. Your comments on the information collection would be most useful if received by OMB and SSA within 60 days from the date of this publication. You can obtain a copy of the OMB clearance package by calling the SSA Reports Clearance Officer at 410-965-0454, or by writing to the address listed above.

1. Homeless Outreach Project and Evaluation (HOPE)

Background

Congress passed the McKinney Act of 1987 in recognition of and in an effort to address situations and conditions facing people without permanent shelter. The Act funded 15 emergency services and nine individual titles to authorize the provision of specific programs by Federal agencies. The Act also established the Interagency Council on Homelessness (ICH) composed of leaders from 15 Federal agencies who are in charge of coordinating efforts to assist people who are homeless. During the past decade, SSA and other ICH agencies have compiled important data about people who are homeless and have carried out evaluations of services which have generated evidence about “best” or “promising practices” well suited to combating homelessness.

In fiscal year 2003, President George W. Bush announced an initiative to end chronic homelessness in 10 years. As a result, SSA developed Project HOPE and in May 2004 awarded 34 Cooperative Agreements to organizations which provide outreach, support services and benefit application assistance to the chronically homeless and other underserved populations. An additional 7 cooperative agreements were awarded in November 2004 for a total of 41. The goal of Project HOPE is to improve both the quantity and quality of applications for disability benefits. Project HOPE gives focused support to Cooperative (co-op) awardees via a training program and ongoing technical assistance.

Evaluation of Project HOPE

SSA is undertaking the project HOPE evaluation to determine the effectiveness and the efficiency of the program. To obtain the information needed for the evaluation, SSA is developing an interactive Web site that will be used by co-op awardees to input client and program data, and by SSA to communicate project-wide announcements to the awardees. The respondents are HOPE grantees/non-profit social services organizations serving people who are homeless & disabled.

Type of Request: New information collection.

Number of Respondents: 41.

Frequency of Response: 12.

Average Burden Per Response: 65 minutes.

Estimated Annual Burden: 533 hours.

II. The information collection listed below has been submitted to OMB for clearance. Your comments on the information collection would be most useful if received by OMB and SSA within 30 days from the date of this publication. You can obtain a copy of the OMB clearance package by calling the SSA Reports Clearance Officer at 410-965-0454, or by writing to the address listed above.

1. Social Security Disability Report—20 CFR 404.1512 & 416.912—0960-0579

SSA requires applicants for disability payments to furnish medical, work history, and other evidence or information indicating they have an impairment which is disabling. The information is used by State DDSs to make disability determinations for SSA. The respondents are applicants for Title II and Title XVI disability benefits. These applicants may provide the information using any of the following modalities: (1) The traditional paper form SSA-3368; (2) an interview with an SSA field office representative, using the Electronic Disability Collection System (EDCS); (3) the Internet (i3368); and (4) a new modality, the i3368-PRO, an Internet form designed to be completed by representatives of applicants for disability payments. The latter three versions of the form collect the same information as the paper form, but may be formatted differently and include certain enhancements (ex: self-help screens) to guide the claimant or interviewer through the application process.

Type of Request: Revision of an OMB-approved information collection.

Note: In the 60-day Federal Register notice, published on November 1, 2004 at 69 FR 63429, the number of respondents for the paper version was given as 10,000 and the number of respondents using the EDCS modality was listed as 1,956,667. Since publishing the Notice, the Agency has realized those numbers should actually be reversed, and they are published correctly in the chart below.

Collection format | Number of respondents | Frequency of response | Average burden per response (hours) | Estimated annual burden (hours)
SSA-3368 (Paper version) | 10,000 | 1 | 1 | 10,000
Field office/Electronic Disability Collection System (EDCS) | 1,956,667 | 1 | 1 | 1,956,667
i3368 (Internet version; Hour burden varies from 1½-3 hours, depending on information required) | 66,000 | 1 | 2½ | 165,000
i3368-PRO | 84,000 | 1 | 1½ | 126,000
Totals | 2,116,667 |  |  | 2,257,667

Dated: December 22, 2004.
Elizabeth A. Davidson,
Reports Clearance Officer, Social Security Administration.

[FR Doc. 04-28562 Filed 12-29-04; 8:45 am]

BILLING CODE 4191-02-P